FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 21, 2017.

A. Federal Reserve Bank of Atlanta (Kathryn Haney, Director of Applications) 1000 Peachtree Street NE., Atlanta, Georgia 30309. Comments can also be sent electronically to Applications.Comments@atl.frb.org:

1. Gaylon M. Lawrence, Nashville, Tennessee; to retain 10 percent or more of the outstanding voting shares of CapStar Financial Holdings, Inc., and thereby indirectly retain voting shares of CapStar Bank, both in Nashville, Tennessee.

Board of Governors of the Federal Reserve System, November 1, 2017.
Ann E. Misback,
Secretary of the Board.

[FR Doc. 2017-24210 Filed 11-6-17; 8:45 am]

BILLING CODE 6210-01-P